DEPARTMENT OF LABOR

Employment And Training Administration

Agency Information Collection Activities; Comment Request; Registered Apprenticeship College Consortium

ACTION: Notice.

SUMMARY: The Department of Labor's (DOL's) Employment and Training Administration (ETA) is soliciting comments concerning a proposed extension for the authority to conduct the information collection request (ICR) titled, “Registered Apprenticeship College Consortium.” This comment request is part of continuing Departmental efforts to reduce paperwork and respondent burden in accordance with the Paperwork Reduction Act of 1995 (PRA).

DATES: Consideration will be given to all written comments received by November 29, 2019.

ADDRESSES: A copy of this ICR with applicable supporting documentation, including a description of the likely respondents, proposed frequency of response, and estimated total burden, may be obtained free by contacting Randy Copeland by telephone at 202-693-3776 (this is not a toll-free number), TTY 1-877-889-5627 (this is not a toll-free number), or by email at Apprenticeship@dol.gov.

Submit written comments about, or requests for a copy of, this ICR by mail or courier to the U.S. Department of Labor, Employment and Training Administration, Office of Apprenticeship, Room C-5321, 200 Constitution Avenue NW, Washington, DC 20210; by email: Apprenticeship@dol.gov; or by Fax 202-693-3799.

FOR FURTHER INFORMATION CONTACT: Randy Copeland by telephone at 202-693-3776 (this is not a toll-free number) or by email at Apprenticeship@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The data collection includes three application forms to establish membership in the Registered Apprenticeship College Consortium. The three types of membership are: Two- and four-year post-secondary institutions, Registered Apprenticeship sponsors, and organizations and associations that represent institutions or sponsors on a national, regional or state level and serve in a coordinating role to facilitate membership in the consortium. At the September 2011 meeting of the Secretary's Advisory Committee on Apprenticeship (ACA) a unanimous proposal was adopted to form a national consortium based on the Service members Opportunity Colleges Consortium (SOC) model, which is a consortium of colleges that provides college articulation for soldiers and veterans who accumulate credits at a number of colleges. The SOC is supported by the Department of Defense. The ACA also adopted the Registered Apprenticeship College Consortium Articulation Framework which outlines the goals of the consortium, the principles that guide the effort, conditions of membership, and criteria. The National Apprenticeship Act of 1937, Section 50 (29 U.S.C. 50), authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0512.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Registered Apprenticeship College Consortium.

Form: Two- and Four-Year Post- Secondary Institutions—Articulation agreement, Two- and Four-Year Post- Secondary Institutions—RACC Application & File Transfer, Registered Apprenticeship Sponsor—RACC Application, Associations and Other Organizations—RACC Application, Two- and Four-Year Post- Secondary Institutions—RACC Applications, Two- and Four-Year Post- Secondary Institutions—Articulation Agreement Review, Registered Apprenticeship Sponsor—Articulation Agreement Review, Associations and Other Organizations -- Articulation Agreement Review.

OMB Control Number: 1205-0512.

Affected Public: Federal Government; State, Local, and Tribal Governments; and Private Sector—Businesses or other for-profit and not-for profit institutions.

Estimated Number of Respondents: 500.

Frequency: Bi-annual.

Total Estimated Annual Responses: 166.6 per year or 500 over three years.

Estimated Average Time per Response: 10 minutes.

Estimated Total Annual Burden Hours: 58 hours.

Total Estimated Annual Other Cost Burden: $0.

Authority: 44 U.S.C. 3506(c)(2)(A).

John Pallasch,
Assistant Secretary for Employment and Training.

[FR Doc. 2019-21182 Filed 9-27-19; 8:45 am]

BILLING CODE 4510-FR-P